DEPARTMENT OF HEALTH AND HUMAN SERVICES

Health Resources and Services Administration

Advisory Committee on Heritable Disorders and Genetic Diseases in Newborns and Children

AGENCY: Health Resources and Services Administration (HRSA), HHS.

ACTION: Notice of request for nominations.

SUMMARY: The Health Resources and Services Administration (HRSA) is requesting nominations to fill eight (8) vacancies on the Advisory Committee on Heritable Disorders and Genetic Diseases in Newborns and Children.

Authority: Section 1111 of the PHS Act, 42 U.S.C. 300b-10. The Committee is governed by the provisions of Public Law 92-463, as amended (5 U.S.C. App. 2), and 41 CFR Part 102-3, which sets forth standards for the formation and use of advisory committees.

DATES: The agency must receive nominations on or before March 15, 2007.

ADDRESSES: All nominations are to be submitted to Michele A. Lloyd-Puryear, M.D., Ph.D., Designated Federal Official and Executive Secretary, Advisory Committee on Heritable Disorders and Genetic Diseases in Newborns and Children, and Chief, Genetic Services Branch, Maternal and Child Health Bureau, Health Resources and Services Administration, Room 18A-19, Parklawn Building, 5600 Fishers Lane, Rockville, Maryland 20857. Nominations will not be accepted by e-mail or facsimilie.

FOR FURTHER INFORMATION CONTACT: Ms. Jill F. Shuger, Genetic Services Branch, Maternal and Child Health Bureau, HRSA, at jshuger@hrsa.gov or (301) 443-1080. A copy of the Committee Charter and list of the current membership can be obtained by contacting Ms. Shuger or by accessing the Advisory Committee Web site at http://mchb.hrsa.gov/programs/genetics/committee.

SUPPLEMENTARY INFORMATION: Title XXVI of the Children's Health Act of 2000, “Screening for Heritable Disorders,” established a program to improve the ability of States to provide newborn and child screening for heritable disorders. Title XXVI enacts three sections of the Public Health Service (PHS) Act: Sections 1109, 1110, and 1111. The Secretary of Health and Human Services (HHS) is directed under section 1111 of the PHS Act to establish an Advisory Committee on Heritable Disorders in Newborns and Children (Committee). HHS has expanded the Committee to include genetic diseases and has renamed the Committee accordingly.

The Committee is established to advise and guide the Secretary regarding the most appropriate application of universal newborn screening tests, technologies, policies, guidelines and programs for effectively reducing morbidity and mortality in newborns and children having or at risk for heritable disorders. In addition, the Committee provides advice and recommendations to the Secretary concerning the grants and projects authorized under section 1109 and technical information to develop policies and priorities for this Program that will enhance the ability of the State and local health agencies to provide for newborn and child screening, counseling and health care services for newborns and children having or at risk for heritable disorders.

Specifically, HRSA is requesting nominations for eight voting members to serve on the Committee. Members shall be selected from medical, technical, public health or scientific professionals with special expertise in the field of heritable disorders or in providing screening, counseling, testing or specialty services for newborns and children at risk for heritable disorders and from members of the public having special expertise about or concern with heritable disorders.

The individuals selected for appointment to the Committee can be invited to serve for overlapping terms of up to 4 years. However, any member appointed to fill a vacancy of an unexpired term shall be appointed for the remainder of such term. Members may serve after the expiration of their term until their successors have taken office. Terms of more than 2 years are contingent upon the renewal of the Committee by appropriate action prior to its expiration. Members who are not Federal employees will receive a stipend for each day they are engaged in the performance of their duties as members of the Committee. Members shall receive per diem and travel expenses as authorized by Section 5 U.S.C. 5703 for persons employed intermittently in Government service. Members who are officers or employees of the United States Government shall not receive compensation for service on the Committee. Nominees will be invited to serve beginning from September 30, 2007.

To allow the Secretary to choose from a highly qualified list of potential candidates, more than one nomination is requested per open position. Nominations should be typewritten. The following information should be included in the package of material submitted for each individual being nominated for consideration: (1) A letter of nomination that clearly states the name and affiliation of the nominee, the basis for the nomination (i.e., specific attributes which qualify the nominee for service in this capacity), and a statement that the nominee is willing to serve as a member of the Committee and appears to have no conflict of interest that would preclude the Committee membership—potential candidates will be asked to provide detailed information concerning consultancies, research grants, or contracts to permit evaluation of possible sources of conflicts of interest; (2) the nominator's name, address, and daytime telephone number, and the home/or work address, telephone number, and e-mail address of the individual being nominated; and (3) a current copy of the nominee's curriculum vitae. Please submit nominations no later than March 15, 2007.

To the extent practicable, members of the Committee should have expertise in dealing with heritable disorders and genetic diseases that affect the racial and ethnic and geographical diversity of newborns served by the State newborn screening programs. The Department of Health and Human Services will ensure that the membership of the Committee reflects an equitable geographical and gender distribution, provided that the effectiveness of the Committee would not be impaired. Appointments shall be made without discrimination on the basis of age, ethnicity, gender, sexual orientation, and cultural, religious, or socioeconomic status.

Dated: February 6, 2007.
Elizabeth M. Duke,
Administrator.

[FR Doc. E7-2362 Filed 2-12-07; 8:45 am]

BILLING CODE 4165-15-P